DEPARTMENT OF THE INTERIOR

National Park Service

[NPS-IMR-GRTE-22122; PA.P0218630A.01.1]

Boundary and Classification Descriptions and Final Maps for Snake River Headwaters, Grand Teton National Park, Yellowstone National Park, John D. Rockefeller, Jr. Memorial Parkway, and National Elk Refuge

AGENCY: National Park Service, Interior.

ACTION: Notice of availability.

SUMMARY: In accordance with the Wild and Scenic Rivers Act, the National Park Service has transmitted the final boundary and classification descriptions and maps of the Snake River Headwaters Wild and Scenic River to Congress. The classification and boundaries become effective as stated under DATES below.

DATES: The boundaries and classification of the Snake River Headwaters Wild and Scenic River become effective 90 days after they are transmitted to Congress.

ADDRESSES: Maps may be viewed on the National Park Service Planning, Environment and Public Comment (PEPC) Web site [http://parkplanning.nps.gov/GRTE-YELL_SnakeRiverHeadwaters_FinalBoundaryMaps] and at any National Park Service office through the LandsNet Web site [http://landsnet.nps.gov/tractsnet/documents/grte/Miscellaneous/grte_SnakeRiverHeadwatersWSR_136-124480.pdf]. Hard copies may also be viewed at Grand Teton National Park Headquarters, 1 Moose Warehouse—170, Moose, WY 83012 and at Yellowstone National Park Headquarters, 2 Bravo Officers Row, Yellowstone National Park, WY 82190.

FOR FURTHER INFORMATION CONTACT: National Park Service Denver Service Center, 12795 W. Alameda Parkway, Denver, CO 80228, 303-969-2724; steve_b_degrush@nps.gov. Individuals who use telecommunication devices for the deaf (TDD) may call the Federal Information Relay Service (FIRS) at1-800-877-8339 between 8:00 a.m. and 8:00 p.m., Eastern Time, Monday through Friday.

SUPPLEMENTARY INFORMATION: On March 30, 2009, President Barack Obama signed Public Law 111-11 (123 Stat. 1147) known as the Craig Thomas Snake Headwaters Legacy Act of 2008, that amended the Wild and Scenic Rivers Act to add approximately 388 miles of rivers and streams of the Snake River Headwaters to the national wild and scenic rivers system, to be administered by the Secretary of the Interior. The headwaters encompass an entire watershed and include 13 rivers and 25 separate river segments that flow across National Park Service, U.S. Forest Service, and U.S. Fish and Wildlife Service lands, as well as a small portion of state and private lands. The boundary establishment addressed in this notice includes only those lands managed by the National Park Service and those at the National Elk Refuge, which are managed by the U.S. Fish and Wildlife Service. As specified by Public Law 111-11 (123 Stat. 1147, 16 U.S.C. 1274 (a)(12)), the boundary becomes effective 90 days after the final boundary description and maps are forwarded to Congress.

Dated: October 12, 2016.
Sue E. Masica,
Regional Director, Intermountain Region, National Park Service.

[FR Doc. 2016-31952 Filed 1-4-17; 8:45 am]

BILLING CODE 4312-52-P